OFFICE OF PERSONNEL MANAGEMENT

5 CFR Parts 351 and 430

RIN 3206-AO06

Reduction in Force

AGENCY: Office of Personnel Management.

ACTION: Withdrawal of proposed rule.

SUMMARY: The Office of Personnel Management is clarifying its withdrawal of a proposed rule published on December 17, 2020. The notice of proposed rulemaking, inter alia, proposed revising OPM's reduction-in-force regulations to prioritize performance over length of service when determining which employees will be retained in a RIF. OPM withdrew the proposed rule on March 12, 2021, but in an abundance of caution issues this clarification reiterating that the proposed rule is withdrawn.

DATES: OPM withdraws the proposed rule as of March 12, 2021, or no later than December 20, 2024.

ADDRESSES: The docket for this withdrawn rule is available at https://www.regulations.gov/document/OPM_FRDOC_0001-2024.

FOR FURTHER INFORMATION CONTACT: Latonia Page (202) 936-3459 or email: employ@opm.gov.

SUPPLEMENTARY INFORMATION: On December 17, 2020, the Office of Personnel Management (OPM) published a notice of proposed rulemaking (NPRM or proposed rule) titled “Reduction in Force,” in the Federal Register. See 85 FR 81839. The NPRM proposed to revise OPM's reduction-in-force (RIF) regulations to prioritize performance over length of service when determining which employees will be retained in a RIF, in response to section 2(j) of Executive Order (E.O.) 13839 (May 25, 2018), titled “Promoting Accountability and Streamlining Removal Procedures Consistent with Merit Systems and Principles.” OPM also proposed modifying the order of retention, clarifying tenure group definitions, and modifying how credit for performance is computed.

In response to the NPRM, OPM received approximately 44 comments during the 30-day comment period which ended on January 19, 2021.

On January 22, 2021, President Biden issued an E.O. 14003 titled “Protecting the Federal Workforce,” which, among other things, revoked E.O. 13839. See 86 FR 7231.

On March 12, 2021, OPM withdrew its NPRM from its regulatory agenda (see https://www.reginfo.gov/public/do/eAgendaViewRule?pubId=202104&RIN=3206-AO06) for three independently sufficient reasons, among others: because E.O. 13839 was revoked, because the NPRM no longer reflected OPM's policy position, and because issuing such a rule was not a priority for OPM.

OPM believes its withdrawal on March 12, 2021, was valid and the agency, regulated entities, and the public have operated with that understanding. Nevertheless, in an abundance of caution, OPM hereby clarifies that the NPRM is withdrawn.

Office of Personnel Management.
Stephen Hickman,
Federal Register Liaison.

[FR Doc. 2024-30883 Filed 12-20-24; 11:15 am]

BILLING CODE 6325-39-P